DEPARTMENT OF ENERGY

Office of Energy Efficiency and Renewable Energy

Electric Vehicle Working Group

AGENCY: Office of Energy Efficiency and Renewable Energy, Department of Energy.

ACTION: Notice for solicitation of members.

SUMMARY: In accordance with the Bipartisan Infrastructure Law (BIL), enacted as the Infrastructure Investment and Jobs Act (IIJA), and the Federal Advisory Committee Act, the U.S. Department of Energy and U.S. Department of Transportation are soliciting nominations for candidates to fill vacancies on the Electric Vehicle Working Group (Working Group).

DATES: Deadline for Working Group member nominations is July 15, 2022.

ADDRESSES: The nominee's name, resume, biography, and any letters of support must be submitted via one of the following methods:

(1) Email to EVWG@ee.doe.gov.

(2) Overnight delivery service to the Rachael Nealer, Designated Federal Official for the Working Group, Office of Energy Efficiency and Renewable Energy, U.S. Department of Energy, Mail Stop EE-3B, 1000 Independence Avenue SW, Washington, DC 20585.

FOR FURTHER INFORMATION CONTACT: Rachael Nealer, Designated Federal Officer, Joint Office of Energy and Transportation, U.S. Department of Energy, 1000 Independence Avenue SW, Washington, DC 20585; 202-586-3916; Email: EVWG@ee.doe.gov.

SUPPLEMENTARY INFORMATION: The Bipartisan Infrastructure Law (BIL), enacted as the Infrastructure Investment and Jobs Act (IIJA), Public Law 117-58 (Nov. 15, 2021) requires the Secretaries of Energy and Transportation to jointly establish an electric vehicle working group to make recommendations regarding the development, adoption, and integration of light-, medium-, and heavy-duty electric vehicles into the transportation and energy systems of the United States. BIL section 25006 established the Electric Vehicle Working Group and lays forth its meetings, coordination, duties, terms, and membership types. Members of the Working Group serve without compensation; however, each member may be reimbursed for authorized travel and per diem expenses incurred while attending Working Group meetings in accordance with Federal Travel Regulations. The Working Group must meet at least every 120 days. Virtual participation is acceptable. The Working Group shall coordinate and consult with any existing Federal interagency working groups on fleet conversion or other similar matters relating to electric vehicles.

The Working Group advises DOE and DOT points-of-contact with respect to the electric vehicle deployment strategy and is required to submit a written report to Secretaries of Energy and Transportation, the Committees on Commerce, Science, and Transportation and Appropriations of the Senate and the Committees on Transportation and Infrastructure and Appropriations of the House of Representatives. The reports (no fewer than three over the duration of the Working Group) will describe the status of electric vehicle adoption including (A) a description of the barriers and opportunities to scaling up electric vehicle adoption throughout the United States, including recommendations for issues relating to (i) consumer behavior; (ii) charging infrastructure needs, including standardization and cybersecurity; (iii) manufacturing and battery costs, including the raw material shortages for batteries and electric motor magnets; (iv) the adoption of electric vehicles for low- and moderate-income individuals and underserved communities, including charging infrastructure access and vehicle purchase financing; (v) business models for charging personal electric vehicles outside the home, including wired and wireless charging; (vi) charging infrastructure permitting and regulatory issues; (vii) the connections between housing and transportation costs and emissions; (viii) freight transportation, including local, port and drayage, regional, and long-haul trucking; (ix) intercity passenger travel; (x) the process by which governments collect a user fee for the contribution of electric vehicles to funding roadway improvements; (xi) State- and local-level policies, incentives, and zoning efforts; (xii) the installation of highway corridor signage; (xiii) secondary markets and recycling for batteries; (xiv) grid capacity and integration; (xv) energy storage; and (xvi) specific regional or local issues that may not appear to apply throughout the United States, but may hamper nationwide adoption or coordination of electric vehicles; (B) examples of successful public and private models and demonstration projects that encourage electric vehicle adoption; (C) an analysis of current efforts to overcome the barriers described in (A); (D) an analysis of the estimated costs and benefits of any recommendations of the working group; an (E) any other topics, as determined by the working group. Based on the reports submitted by the Working Group, the Secretaries of Energy and Transportation will jointly develop, maintain, and update a strategy that describes the means by which the Federal Government, States, units of local government, and industry can—(i) establish quantitative targets for transportation electrification; (ii) overcome the barriers to scaling up electric vehicle adoption throughout the United States; (iii) identify areas of opportunity in research and development to improve battery manufacturing, mineral mining, recycling costs, material recovery, fire risks, and battery performance for electric vehicles; (iv) enhance Federal interagency coordination to promote electric vehicle adoption; (v) prepare the workforce for the adoption of electric vehicles, including through collaboration with labor unions, educational institutions, and relevant manufacturers; (vi) expand electric vehicle and charging infrastructure; (vii) expand knowledge of the benefits of electric vehicles among the general public; (viii) maintain the global competitiveness of the United States in the electric vehicle and charging infrastructure markets; (ix) provide clarity in regulations to improve national uniformity with respect to electric vehicles; and (x) ensure the sustainable integration of electric vehicles into the national electric grid.

The Secretaries of Energy and Transportation (or designees) will serve as co-chairs of the Working Group and will appoint no more than 25 members (not more than 6 Federal and 19 non-federal stakeholders). The non-Federal members selected, in the aggregate, will consist of individuals with a balance of backgrounds, experiences, and viewpoints; and include individuals that represent geographically diverse regions of the United States, including individuals representing the perspectives of rural, urban, and suburban areas. Membership must include no less than one representative of: (i) a manufacturer of light-duty electric vehicles or the relevant components of light-duty electric vehicles; (ii) a manufacturer of medium- and heavy-duty vehicles or the relevant components of medium- and heavy-duty electric vehicles; (iii) a manufacturer of electric vehicle batteries; (iv) an owner, operator, or manufacturer of electric vehicle charging equipment; (v) the public utility industry; (vi) a public utility regulator or association of public utility regulators; (vii) the transportation fueling distribution industry; (viii) the energy provider industry; (ix) the automotive dealing industry; (x) the for-hire passenger transportation industry; (xi) an organization representing units of local government; (xii) an organization representing regional transportation or planning agencies; (xiii) an organization representing State departments of transportation; (xiv) an organization representing State departments of energy or State energy planners; (xv) the intelligent transportation systems and technologies industry; (xvi) labor organizations representing workers in transportation manufacturing, construction, or operations; (xvii) the trucking industry; (xviii) Tribal governments; and (xix) the property development industry; and may include a representative of any other non-Federal stakeholder that the Secretaries consider to be appropriate (REF: BIL 2022 section 25006). All nominees will be carefully reviewed for their expertise, leadership, and relevance to an expertise. The Working Group terminates on submission of the third report required by the BIL unless renewed by appropriate action prior to its expiration, the charter for the Working Group will expire two-years from the date it is filed.

Nominations are solicited from organizations, associations, societies, councils, federations, groups, universities, and companies that represent a wide variety of electric vehicle expertise. In your nomination letter, please indicate the specific membership category of interest. Each nominee must submit their resume and biography along with any letters of support by the deadline above. All nominees will be vetted before selection.

To ensure that recommendations of the Working Group have considered the needs of diverse groups served by the Departments, the Departments shall seek opportunities to increase diversity, equity, inclusion, and accessibility for the membership of the Working Group. Please note that federally registered lobbyists serving in an “individual capacity” are ineligible for appointment or reappointment.

Appointments to the Electric Vehicle Working Group will be made by the Secretary of Energy and the Secretary of Transportation.

Signing Authority

This document of the Department of Energy was signed on June 8, 2022, by Miles Fernandez, Acting, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 9, 2022.
Treena V. Garrett,
Federal Register Liaison Officer, U.S. Department of Energy.

[FR Doc. 2022-12755 Filed 6-13-22; 8:45 am]

BILLING CODE 6450-01-P